DEPARTMENT OF COMMERCE

Foreign-Trade Zones Board

[Docket 44-96]

Foreign-Trade Zone 202-Los Angeles, CA; Withdrawal of Application for Subzone Status for California Steel Industries, Inc.; Steel Mill Products Manufacturing Facilities in Fontana, CA

Notice is hereby given of the withdrawal of the application submitted by the Board of Harbor Commissioners of the City of Los Angeles, California, grantee of FTZ 202, requesting special-purpose subzone status for the manufacturing facilities (steel mill products) of California Steel Industries, Inc., in Fontana, California. The application was filed on May 24, 1996 (61 FR 14157, 6/6/96). The application has now been withdrawn by the applicant, and the case has been closed without prejudice.

Dated: April 10, 2003.
Dennis Puccinelli,
Executive Secretary.

[FR Doc. 03-9742 Filed 4-18-03; 8:45 am]

BILLING CODE 3510-DS-P